DEPARTMENT OF ENERGY

Federal Energy Regulatory Commission

[Project No. 2587-066]

Northern States Power Company; Notice of Application Tendered for Filing With The Commission and Soliciting Additional Study Requests and Establishing Procedural Schedule for Relicensing and a Deadline for Submission of Final Amendments

Take notice that the following hydroelectric application has been filed with the Commission and is available for public inspection.

a. Type of Application: New Major License.

b. Project No.: 2587-066.

c. Date Filed: December 30, 2022.

d. Applicant: Northern States Power Company.

e. Name of Project: Superior Falls Hydroelectric Project (Superior Falls Project).

f. Location: The Superior Falls Project is located on the Montreal River in Iron County, Wisconsin and Gogebic County, Michigan.

g. Filed Pursuant to: Federal Power Act, 16 U.S.C. 791 (a)-825(r).

h. Applicant Contact: Matt Miller, Hydro License Consultant, Northern States Power Company, 1414 West Hamilton Avenue, P.O. Box 8, Eau Claire, Wisconsin 54702-0008, (715) 737-1353 or email at matthew.i.miller@xcelenergy.com.

i. FERC Contact: Lee Emery at (202) 502-8379 or email at lee.emery@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 28, 2023.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Superior Falls Hydroelectric Project (P-2587-066).

m. This application is not ready for environmental analysis at this time.

n. The existing Superior Falls Project consists of: (1) a reservoir with a surface area of 16.3-acres with a storage capacity of 78.2 acre-feet; (2) a 240-foot-long, 28.5-foot-high dam; (3) a 1,697-foot-long, 7-foot diameter conduit; (4) a 28-foot-diameter by 28-foot-high surge tank; (5) two 207-foot-long by 54-inch-diameter penstocks extending from the surge tank to the powerhouse; (6) a powerhouse containing two turbine-generator units each rated at 825 kilowatts with a combined plant capacity of 1.65 megawatts; (7) a 200-foot-long above ground transmission line; and (8) appurtenant facilities.

The Superior Falls Project is operated in a run-of-river mode with an estimated average annual energy production of 11,436 megawatt-hours, based on a five-year period ending in 2021. Northern States Power Company proposes to continue operating the project as a run-of-river facility and does not propose any new construction to the project.

o. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural Schedule: The application will be processed according to the following preliminary schedule. Revisions to the schedule will be made as appropriate.

Milestone | Target date
Issue Deficiency Letter (if necessary) | March 2023.
Request Additional Information (if necessary) | April 2023.
Issue Scoping Document 1 for comments | September 2023.
Issue Scoping Document 2 (if necessary) | December 2023.

q. Final amendments to the application must be filed with the Commission no later than 30 days from the issuance date of the notice of ready for environmental analysis.

Dated: January 12, 2023.
Kimberly D. Bose,
Secretary.

[FR Doc. 2023-00951 Filed 1-18-23; 8:45 am]

BILLING CODE 6717-01-P